DEPARTMENT OF ENERGY

Federal Energy Regulatory Commission

Notice of Filing Guidelines for CPA Certification Statements, Annual Stockholders Reports, FERC-730 and FERC-61

March 15, 2007.

CPA Certification Statements, Docket No. ZZ07-1-000 ; Annual Stockholders Reports, Docket No. ZZ07-2-000; FERC-730 Reports of Transmission Investment Activity; Docket No. ZZ07-3-000; FERC-61 Narrative Description of Service Company Functions; Docket No. HC07-7-000.

Take notice that the Commission is issuing electronic filing guidelines for submission of:

(1) CPA Certification Statements for FERC Form Nos. 1, 1-F, 2, and 2-A filed pursuant to 18 CFR 41.10-41.12 and 18 CFR 158.10-158.12. These Certification Statements will be filed under Docket No. ZZ07-1-000.

(2) Annual Stockholders Reports filed in conjunction with FERC Form Nos. 1, 2, 2-A and 6. These Reports will all be filed under Docket No. ZZ07-2-000.

(3) FERC-730, Reports of Transmission Investment Activity, filed pursuant to 18 CFR 35.35(h). These Reports will all be filed under Docket No. ZZ07-3-000.

(4) FERC-61, Narrative Description of Service Company Functions, filed pursuant to 18 CFR 366.23(a)(2). These Narrative Descriptions will all be filed under Docket HC07-7-000.

The electronic filing guidelines are attached to this notice and will available on the Commission's Web site at: http://www.ferc.gov/help/how-to.asp.

Philis J. Posey,
Acting Secretary.

[FR Doc. E7-5127 Filed 3-20-07; 8:45 am]

BILLING CODE 6717-01-P